DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Recreational Charter Vessel Guide and Owner Data Collection.

OMB Control Number: 0648-0647.

Form Number(s): None.

Type of Request: Regular (reinstatement without change of a previously approved information collection).

Number of Respondents: 560.

Average Hours per Response: Mail survey, 90 minutes; follow-up telephone survey, 6 minutes.

Burden Hours: 260.

Needs and Uses: Numerous management measures have recently been proposed or implemented that affect recreational charter boat fishing for Pacific halibut off Alaska. On January 5, 2010, NMFS issued a final rule establishing a limited entry permit system for charter vessels in the guided halibut sport fishery in International Pacific Halibut Commission Areas 2C (Southeast Alaska) and 3A (Central Gulf of Alaska) (75FR554). This permit system is intended to address concerns about the growth of fishing capacity in this fishery sector, which accounts for a substantial portion of the overall recreational halibut catch in Alaska. On March 16, 2011, a size limit on Pacific halibut caught while charter boat fishing in Area 2C for the 2011 fishing season was established (76FR14300). In addition, a Halibut Catch Sharing Plan (76FR44156) was implemented in 2014 that altered the way Pacific halibut is allocated between the guided sport (i.e., the charter sector) and the commercial halibut fishery.

To assess the effect of regulatory restrictions (currently in place or potential) on charter operator and owner behavior and welfare, it is necessary to obtain a better general understanding of the Alaska recreational charter boat industry. Some information useful for this purpose is already collected from existing sources, such as charter vessel logbooks administered by the Alaska Department of Fish and Game (ADF&G). In addition, a voluntary survey under this OMB Control Number administered to collect economic information for three fishing seasons (2011-2013) from business owners in the charter fleet was administered between 2012 and 2014. It collected information on vessel and crew characteristics, services offered to clients, spatial and temporal aspects of their operations and fishing behavior, and costs and earnings information for the three fishing seasons prior to implementation of the Halibut Catch Sharing Plan. These data were collected directly from the industry since they are not available from other existing data sources. A description of the previously-fielded survey and a summary of the results are available in a NOAA Technical Memorandum that can be accessed at http://www.afsc.noaa.gov/Publications/AFSC-TM/NOAA-TM-AFSC-299.pdf.

To evaluate changes in the charter sector associated with the Halibut Catch Sharing Plan, the National Marine Fisheries Service's (NMFS) Alaska Fisheries Science Center proposes to continue the implementation of the survey of charter vessel owners to collect annual cost, earnings, and employment data that will supplement logbook data collected by ADF&G. The proposed data collection will provide another three years of basic economic information about the charter sector beyond the 2011 to 2013 data that was collected previously, including revenues produced from different products and services provided to clients, fixed and variable operating costs, and locations of purchases. These data will support improved analysis and of the effects of fisheries regulations on the charter fishing industry, information that is increasingly needed by the North Pacific Fishery Management Council and NMFS to more completely understand ongoing halibut allocation issues and other fishery management issues involving the charter industry. The survey will have minor changes, including, possibly, a small set of questions about how charter vessels have been impacted by a new management program)

Affected Public: Business or other for-profit organizations.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 26, 2015.
Sarah Brabson,
NOAA PRA Clearance Officer.

[FR Doc. 2015-27570 Filed 10-28-15; 8:45 am]

BILLING CODE 3510-22-P